POSTAL SERVICE

39 CFR Part 111

Express Mail Domestic Postage Refund Policy and Waiver of Signature

AGENCY: Postal Service™.

ACTION: Proposed rule.

SUMMARY: The Postal Service is proposing to revise Mailing Standards of the United States Postal Service, Domestic Mail Manual (DMM®) throughout various sections to modify the policy for filing claims for domestic Express Mail® refunds from 90 days to 30 days after the date of mailing, and to change the Express Mail “waiver of signature” standard for domestic items by obtaining an addressee's signature only when the mailer selects the “signature required” option on the Express Mail label.

DATES: We must receive your comments on or before November 7, 2011.

ADDRESSES: Mail or deliver written comments to the manager, Product Classification, U.S. Postal Service, 475 L'Enfant Plaza, SW., Room 4446, Washington DC 20260-5015. You may inspect and photocopy all written comments at USPS® Headquarters Library, 475 L'Enfant Plaza, SW., 11th Floor N, Washington, DC, between 9 a.m. and 4 p.m., Monday through Friday. E-mail comments concerning the proposed rule, containing the name and address of the commenter, may be sent to: MailingStandards@usps.gov, with a subject line of “Express Mail Refund Policy and Waiver of Signature.” Faxed comments are not accepted.

FOR FURTHER INFORMATION CONTACT: Lisa Bobb-Semple at 202-268-3391 or Garry Rodriguez at 202-268-7281.

SUPPLEMENTARY INFORMATION:

The USPS proposes to align the refund policy for domestic Express Mail with the industry standard for overnight products by requiring all claims for postage refunds to be filed within 30 days of the date of mailing instead of the current filing timeline of 90 days.

Additionally, the USPS proposes to make the following change in conjunction with the implementation of the redesigned Express Mail Label 11-B and Label 11-F, Express Mail Post Office to Addressee.

The Postal Service proposes to modify Express Mail Label 11-B and Label 11-F, by eliminating the “waiver of signature” check box. A mailer sending an Express Mail item, and requiring an addressee's signature, must select the new “signature required” box on the new Express Mail label dated January 2012. If the box is not selected, the Postal Service will not obtain a signature from the addressee upon delivery of Express Mail Next Day Delivery and Express Mail Second Day Delivery items. Instead, the carrier will scan the barcode and leave the item in the customer's mail receptacle or other secure location to indicate delivery.

Express Mail Hold For Pickup service always requires the signature of the addressee or addressee's agent. Therefore, the Express Mail Label 11-HFPU, Express Mail Hold For Pickup, will not be revised.

Although we are exempt from the notice and comment requirements of the Administrative Procedure Act [5 U.S.C of 553(b), (c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

100 Retail Letters, Cards, Flats, and Parcels

* * * * *

110 Express Mail

113 Prices and Eligibility

* * * * *

4.0 Service Features of Express Mail

4.1 General

[Revise the text of 4.1 by combining the introductory text and text of item a and deleting item b in its entirety as follows:]

Customers may access delivery information at http://www.usps.com or by calling 1-800-222-1811 toll-free and providing the article number. A delivery record, including the addressee's signature, will be faxed or mailed upon request. See 115.2.2 for more information regarding the addressee's signature.

* * * * *

115 Express Mail Preparation

* * * * *

2.0 Express Mail Next Day and Second Day

* * * * *

2.2 Waiver of Signature

[Revise the first sentence of 2.2 as follows:]

For editions of Express Mail Label 11-B or Label 11-F, Express Mail Post Office to Addressee, printed before January, 2012, a mailer sending an Express Mail item may instruct the USPS to deliver an Express Mail Next Day Delivery or Express Mail Second Day Delivery item without obtaining the signature of the addressee or the addressee's agent by checking and signing the waiver of signature on Label 11-B or Label 11-F, or indicating waiver of signature is requested on single-ply commercial label. * * *

[Renumber current item 2.3 as 2.4 and add new 2.3 as follows:]

2.3 Signature Required

For editions of Express Mail Label 11-B or Label 11-F, Express Mail Post Office to Addressee, printed on or after January, 2012, a mailer sending an Express Mail item, and requiring the addressee's signature, must instruct USPS to obtain a signature from the addressee upon delivery of the item by checking the “signature required” box on Label 11-B or Label 11-F. If the signature required box is selected, an image of the signature will be provided to mailers when accessing delivery information. A mailer must select signature service for Express Mail Custom Designed Service, Express Mail COD, or Express Mail with additional insurance.

* * * * *

200 Commercial Letters and Cards

* * * * *

210 Express Mail

213 Prices and Eligibility

* * * * *

4.0 Service Features of Express Mail

4.1 General

[Revise the text of current item 4.1 by combining the introductory text and the text of item a, and deleting item b in its entirety as follows:]

Customers may access delivery information at http://www.usps.com or by calling 1-800-222-1811 toll-free and providing the article number. A delivery record, including the addressee's signature, will be faxed or mailed upon request. See 215.2.2 for more information regarding the addressee's signature.

* * * * *

215 Mail Preparation

* * * * *

2.0 Express Mail Next Day and Second Day

* * * * *

2.2 Waiver of Signature

[Revise the first sentence of 2.2 as follows:]

For editions of Express Mail Label 11-B or Label 11-F, Express Mail Post Office to Addressee, printed before January, 2012, a mailer sending an Express Mail item may instruct the USPS to deliver an Express Mail Next Day Delivery or Express Mail Second Day Delivery item without obtaining the signature of the addressee or the addressee's agent by checking and signing the waiver of signature on Label 11-B or Label 11-F, or indicating waiver of signature is requested on single-ply commercial label. * * *

[Renumber 2.3 as 2.4 and add new 2.3 as follows:]

2.3 Signature Required

For editions of Express Mail Label 11-B or Label 11-F, Express Mail Post Office to Addressee, printed on or after January, 2012, a mailer sending an Express Mail item, and requiring the addressee's signature, must instruct USPS to obtain a signature from the addressee upon delivery of the item by checking the “signature required” box on Label 11-B or Label 11-F. If the signature required box is selected, an image of the signature will be provided when accessing delivery information.

* * * * *

3.0 Express Mail Custom Designed

* * * * *

[Revise the title and text of 3.2 as follows:]

3.2 Signature Required

The addressee's (or agent's) signature is required for all Express Mail Custom Designed service.

* * * * *

300 Commercial Flats

* * * * *

310 Express Mail

313 Prices and Eligibility

* * * * *

4.0 Service Features of Express Mail

4.1 General

[Revise the current text of 4.1 by combining the introductory text and the text of item a, and deleting item b in its entirety as follows:]

Customers may access delivery information at http://www.usps.com or by calling 1-800-222-1811 toll-free and providing the article number. A delivery record, including the addressee's signature, will be faxed or mailed upon request. See 315.2.2 for more information regarding the addressee's signature.

* * * * *

315 Mail Preparation

* * * * *

2.0 Express Mail Next Day and Second Day

* * * * *

2.2 Waiver of Signature

[Revise the first sentence of 2.2 as follows:]

For editions of Express Mail Label 11-B or Label 11-F, Express Mail Post Office to Addressee, printed before January, 2012, a mailer sending an Express Mail item may instruct the USPS to deliver an Express Mail Next Day Delivery or Express Mail Second Day Delivery item without obtaining the signature of the addressee or the addressee's agent by checking and signing the waiver of signature on Label 11-B or Label 11-F, or indicating waiver of signature is requested on single-ply commercial label. * * *

[Renumber current item 2.3 as 2.4 and add new 2.3 as follows:]

2.3 Signature Required

For editions of Express Mail Label 11-B or Label 11-F, Express Mail Post Office to Addressee, printed on or after January, 2012, a mailer sending an Express Mail item, and requiring the addressee's signature, must instruct USPS to obtain a signature from the addressee upon delivery of the item by checking the “signature required” box on Label 11-B or Label 11-F. If the signature required box is selected, an image of the signature will be provided when accessing delivery information.

* * * * *

3.0 Express Mail Custom Designed

* * * * *

[Revise the title and text of 3.2 as follows:]

3.2 Signature Required

The addressee's (or agent's) signature is required for all Express Mail Custom Designed service.

* * * * *

400 Commercial Parcels

* * * * *

410 Express Mail

413 Prices and Eligibility

* * * * *

4.0 Service Features of Express Mail

4.1 General

[Revise the current text of 4.1 by combining the introductory text and text of item a, and deleting item b in its entirety as follows:]

Customers may access delivery information at http://www.usps.com or by calling 1-800-222-1811 toll-free and providing the article number. A delivery record, including the addressee's signature, will be faxed or mailed upon request. See 415.2.2 for more information regarding the addressee's signature.

* * * * *

415 Mail Preparation

* * * * *

2.0 Express Mail Next Day and Second Day

* * * * *

2.2 Waiver of Signature

[Revise the first sentence of 2.2 as follows:]

For editions of Express Mail Label 11-B or Label 11-F, Express Mail Post Office to Addressee, printed before January, 2012, a mailer sending an Express Mail item may instruct the USPS to deliver an Express Mail Next Day Delivery or Express Mail Second Day Delivery item without obtaining the signature of the addressee or the addressee's agent by checking and signing the waiver of signature on Label 11-B or Label 11-F, or indicating waiver of signature is requested on single-ply commercial label. * * *

[Renumber 2.3 as 2.4 and add new 2.3 as follows:]

2.3 Signature Required

For editions of Express Mail Label 11-B or Label 11-F, Express Mail Post Office to Addressee, printed on or after January, 2012, a mailer sending an Express Mail item, and requiring the addressee's signature, must instruct USPS to obtain a signature from the addressee upon delivery of the item by checking the “signature required” box on Label 11-B or Label 11-F. If the signature required box is selected, an image of the signature will be provided when accessing delivery information.

* * * * *

3.0 Express Mail Custom Designed

* * * * *

[Revise the title and text of 3.2 as follows:]

3.2 Signature Required

The addressee's (or agent's) signature is required for all Express Mail Custom Designed service.

* * * * *

500 Additional Mailing Services

503 Extra Services

1.0 Extra Services for Express Mail

1.1 Available Services

* * * * *

1.1.6 COD

[Revise 1.1.6 by adding a new last sentence as follows:]

* * * A signature is required for COD service.

1.1.7 Insurance and Indemnity

Express Mail is insured against loss, damage, or missing contents, subject to these standards:

* * * * *

[Revise item 1.1.7b as follows:]

b. All Express Mail signed for by the addressee or the addressee's agent constitutes a valid delivery, and no indemnity for loss is paid. For Express Mail items not requiring a signature, a delivered scan event constitutes a valid delivery, and no indemnity for loss is paid.

* * * * *

1.1.8 Additional Insurance

[Revise the last sentence of 1.1.8 as follows:]

* * * When “signature required” service is not requested, or when “waiver of signature” is requested additional insurance is not available.

* * * * *

12.0 Collect on Delivery (COD)

* * * * *

12.2 Basic Information

* * * * *

12.2.5 Express Mail COD

[Revise the first sentence of 12.2.5 as follows:]

Any article sent COD also may be sent by Express Mail next day and second day service when a signature is requested. * * *

* * * * *

600 Basic Standards for All Mailing Services

601 Mailability

* * * * *

11.0 Cigarettes and Smokeless Tobacco

* * * * *

11.5 Exception for Business/Regulatory Purposes

* * * * *

11.5.2 Mailing

* * * All mailings under the business/regulatory purposes exception must:

[Revise item 11.5.2a as follows:]

a. Be entered in a face-to-face transaction with a postal employee as Express Mail with Hold For Pickup service (carrier pickup services not permitted);

* * * * *

11.6 Exception for Certain Individuals

* * * * *

11.6.2 Mailing

No customer may send or cause to be sent more than 10 mailings under this exception in any 30-day period. Each mailing under the certain individuals exception must:

[Revise item 11.6.2a as follows:]

a. Be entered as Express Mail with an Adult Signature extra service (see 503.8.0), or Express Mail with Hold For Pickup service (carrier pickup services not permitted); unless shipped to APO/FPO/DPO addresses under 11.6.4.

* * * * *

11.7 Consumer Testing Exception

* * * * *

11.7.2 Mailing

* * * Mailings must be tendered under the following conditions:

* * * * *

b. All mailings under the consumer testing exception:

[Revise 11.7.2b1 as follows:]

1. Must be entered in face-to-face transactions with postal employees as Express Mail with Hold For Pickup service requested (carrier pickup services not permitted);

* * * * *

604 Postage Payment Methods

* * * * *

9.0 Refunds and Exchanges

* * * * *

9.5 Express Mail Postage Refund

* * * * *

9.5.2 Conditions for Refund

[Revise 9.5.2 to change the refund request days from 90 to 30 days, and consolidate the text in the introductory paragraph and items a and b as follows:]

A postage refund request must be made within 30 days after the date of mailing. Except as provided in 114.2.0, 214.3.0, 314.3.0, and 414.3.0 a mailer may file for a postage refund only if the item was not delivered, delivery was not attempted, or if the item was not made available for claim by the delivery date and time specified at the time of mailing.

9.5.3 Refunds Not Given

[Revise the DMM references in 9.5.3 to include 214.3.0 and 314.3.0 as follows:]

A postage refund will not be given if the guaranteed service was not provided due to any of the circumstances in 114.2.0, 214.3.0, 314.3.0, and 414.3.0.

* * * * *

700 Special Standards

703 Nonprofit Standard Mail and Other Unique Eligibility

* * * * *

2.0 Overseas Military Mail

* * * * *

2.6 Express Mail Military Service (EMMS)

* * * * *

[Revise the title and text of 2.6.10 as follows:]

2.6.10 Signature Required

A signature is required for Express Mail Military Service.

* * * * *

We will publish an appropriate amendment to 39 CFR part 111 to reflect these changes if our proposal is adopted.

Stanley F. Mires,
Attorney, Legal Policy and Legislative Advice.

[FR Doc. 2011-25803 Filed 10-5-11; 8:45 am]

BILLING CODE 7710-12-P